OFFICE OF PERSONNEL MANAGEMENT

Excepted Service

AGENCY: Office of Personnel Management.

ACTION: Notice.

SUMMARY: This gives notice of OPM decisions, granting authority to make appointments under Schedule C in the excepted service as required by 5 CFR 6.1 and 213.103.

FOR FURTHER INFORMATION CONTACT: Pam Shivery, Director, Washington Service Center, Employment Service (202) 606-1015.

SUPPLEMENTARY INFORMATION: Appearing in the listing below are one Schedule A authority and the individual authorities established under Schedule C between between December 01, 2002 and December 31, 2002. Future notices will be published on the fourth Tuesday of each month, or as soon as possible thereafter. A consolidated listing of all authorities as of June 30 is published each year.

Schedule A

U.S. Chemical and Hazard Investigation Board

Up to 37 positions established to create the Chemical Safety Hazard Investigation Board. No new appointments may be made under this authority after December 31, 2000. Effective December 31, 2002.

Schedule C

Department of Agriculture

Special Assistant to the Administrator, Farm Service Agency. Effective December 10, 2002.

Special Assistant to the Chief of Staff. Effective December 12, 2002.

Assistant to the Chief for Environment and Natural Resources. Effective December 20, 2002.

Director of Marketing and Public Relations to the Chief Natural Resource and Conservation Service. Effective December 20, 2002.

Confidential Assistant to the Assistant Secretary for Congressional Relations. Effective December 20, 2002.

Department of Commerce

Senior Policy Advisor to the Assistant to the Secretary and Director, Office of Policy and Strategic Planning. Effective December 9, 2002.

Special Assistant to the Director of External Affairs. Effective December 30, 2002.

Special Assistant to the Director of External Affairs. Effective December 30, 2002.

Special Assistant to the Director of External Affairs. Effective December 30, 2002.

Department of Defense

Staff Assistant to the Deputy Assistant Secretary of Defense (Eurasia). Effective December 4, 2002.

Protocol Officer to the Director of Protocol. Effective December 9, 2002.

Confidential Assistant to the Assistant Secretary of Defense Command, Control, Communications and Intelligence. Effective December 30, 2002.

Special Assistant to the Assistant Secretary of Defense (Legislative Affairs). Effective December 30, 2002.

Special Assistant to the Assistant Secretary of Defense (Legislative Affairs). Effective December 30, 2002.

Defense Short to the Special Assistant to the Secretary of Defense for White House Liaison. Effective December 31, 2002.

Department of Education

Special Assistant to the Assistant Secretary for Management. Effective December 19, 2002.

Deputy Secretary's Regional Representative, Region IX to the Deputy Assistant Secretary for Regional Services. Effective December 20, 2002.

Confidential Assistant to the Special Assistant. Effective December 31, 2002.

Department of Energy

Special Assistant for Communications to the Director, Office of Civilian Radioactive Waste Management. Effective December 4, 2002.

Deputy Chief of Staff to the Deputy Secretary of Energy. Effective December 13, 2002.

Department of Health and Human Services

Special Assistant to the Assistant Secretary for Public Affairs. Effective December 2, 2002.

Director of Speechwriting to the Deputy Assistant Secretary for Public Affairs (Media). Effective December 10, 2002.

Assistant to the Commissioner for Presidential Initiatives. Effective December 12, 2002.

Department of Housing and Urban Development

Staff Assistant to the Assistant Secretary for Public Affairs. Effective December 3, 2002.

Staff Assistant to the Senior Advisor to the Deputy Secretary. Effective December 4, 2002.

Special Assistant to the Assistant Secretary for Public and Indian Housing. Effective December 4, 2002.

Special Assistant to the Assistant Secretary for Public and Indian Housing. Effective December 4, 2002.

Deputy Assistant Secretary for Policy Management to the Assistant Secretary for Policy Development and Research. Effective December 11, 2002.

Staff Assistant to the Assistant Secretary for Community Planning and Development. Effective December 11, 2002.

Staff Assistant to the Assistant Secretary for Congressional and Intergovernmental Relations. Effective December 13, 2002.

Staff Assistant to the Assistant Secretary for Public and Indian Housing. Effective December 13, 2002.

Special Assistant to the Assistant Deputy Secretary for Field Policy and Management. Effective December 19, 2002.

Deputy Assistant Secretary for Public Housing and Voucher Proof to the Assistant Secretary for Public and Indian Housing. Effective December 20, 2002.

Special Assistant to the Assistant Secretary for Housing, Federal Housing Commission. Effective December 30, 2002.

Staff Assistant to the Assistant Secretary for Congressional and Intergovernmental Relations. Effective December 31, 2002.

Special Assistant to the Assistant Deputy Secretary for Field Policy and Management. Effective December 31, 2002.

Department of the Interior

Special Assistant to the Director, Minerals Management Service. Effective December 13, 2002.

Special Assistant—Lewis and Clark to the Director, External and Intergovernmental Affairs. Effective December 30, 2002.

Department of Justice

Special Assistant to the Deputy Attorney General. Effective December 19, 2002.

Senior Counsel to the Assistant Attorney General. Effective December 20, 2002.

Research Assistant to the Director, Office of Public Affairs. Effective December 20, 2002.

Confidential Assistant to the Director, Office of Public Affairs. Effective December 23, 2002.

Department of Labor

Special Assistant to the Director, Office of Public Liaison. Effective December 3, 2002.

Chief of Staff to the Assistant Secretary for Employment Standards. Effective December 13, 2002.

Research Assistant to the Assistant Secretary for Congressional and Intergovernmental Affairs. Effective December 17, 2002.

Department of State

Legislative Management Officer to the Assistant Secretary for Legislative and Intergovernmental Affairs. Effective December 10, 2002.

Foreign Affairs Officer to the Assistant Secretary, Bureau of Political Affairs. Effective December 10, 2002.

Foreign Affairs Officer to the Deputy Assistant Secretary for Public Affairs/Chief Speechwriter. Effective December 13, 2002.

Special Assistant to the Assistant Secretary for Political-Military Affairs. Effective December 18, 2002.

Legislative Management Officer to the Assistant Secretary for Legislative and Governmental Affairs. Effective December 19, 2002.

Special Assistant to the Under Secretary for Arms Control and Security Affairs. Effective December 19, 2002.

Department of Transportation

Senior Policy Advisor to the Administrator, Federal Motor Carrier Safety Administration. Effective December 20, 2002.

Department of the Treasury

Senior Advisor to the Assistant Secretary (Economic Policy). Effective December 19, 2002.

Farm Credit Administration

Congressional and Public Affairs Specialist to the Director, Office of Congressional and Public Affairs. Effective December 9, 2002.

Federal Emergency Management Agency

Staff Assistant to the Director, Mount Weather Enterpise Operations Division to the Executive Administrator, Emergency Management Center. Effective December 3, 2002.

General Services Administration

Special Assistant to the Regional Administrator, New England Region. Effective December 31, 2002.

Office of Management and Budget

Legislative Analyst to the Associate Director for Legislative Affairs. Effective December 13, 2002.

Confidential Assistant to the Executive Associate Director. Effective December 20, 2002.

Office of National Drug Control Policy

Program Analyst (Program and Fiscal Management) to the Director, Counter-Drug Control Policy. Effective December 10, 2002.

Office of Personnel Management

Special Assistant to the Director, Office of Communications. Effective December 3, 2002.

Coordinator, Public Liaison and Hispanic Outreach to the Director, Office of Communications. Effective December 3, 2002.

Deputy Director to the Director, Office of Congressional Relations. Effective December 3, 2002.

Attorney Advisor to the General Counsel. Effective December 18, 2002.

Overseas Private Investment Corporation

Confidential Assistant to the Vice President for External Affairs. Effective December 19, 2002.

Small Business Administration

Senior Advisor to the Associate Administrator for Investments. Effective December 3, 2002.

Speech Writer to the Associate Director for Communications (Public Liaison). Effective December 20, 2002.

Authority: 5 U.S.C. 3301 and 3302; E.O. 10577, 3 CFR 1954-1958 Comp., P.218

Office of Personnel Management.
Kay Coles James,
Director.

[FR Doc. 03-2462 Filed 2-3-03; 8:45 am]

BILLING CODE 6325-38-P